DEPARTMENT OF VETERANS AFFAIRS

[OMB Control No. 2900-0049]

Agency Information Collection Activity Under OMB Review: Request for Approval of School Attendance and School Attendance Report

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0049.

FOR FURTHER INFORMATION CONTACT: Maribel Aponte, Office of Enterprise and Integration, Data Governance Analytics (008), 1717 H Street NW, Washington, DC 20006, (202) 266-4688 or email maribel.aponte@va.gov. Please refer to “OMB Control No. 2900-0049” in any correspondence.

SUPPLEMENTARY INFORMATION: Authority: 38 U.S.C. 101 (4)(A), 38 CFR 3.277 and 3.667.

Title: Request for Approval of School Attendance (VA Forms 21-674 and 674c) and School Attendance Report (VA Form 21-674b).

OMB Control Number: 2900-0049.

Type of Review: Reinstatement of a previously approved collection.

Abstract: 38 U.S.C. 101 (4)(A) provides the authority to pay benefits to or for a child who attends an approved course of instruction or training between the ages of 18 and 23. VA Forms 21-674, 674b, and 674c solicit information that is needed to determine eligibility to benefits for these children. Without this information, VA would be unable to properly authorize benefits.

Substantive changes have been made to both VA Forms 21-674 and 21-674b. Redundant questions have been removed. However, even with these changes, the estimated burden time has not changed. The decrease in respondent burden is due to the estimated number of receivables decreasing over the previous year.

An agency may not conduct or sponsor, and a person is not required to respond to a collection of information unless it displays a currently valid OMB control number. The Federal Register Notice with a 60-day comment period soliciting comments on this collection of information was published at 86 FR 119 on June 24, 2021, page 33477.

Affected Public: Individuals or Households.

Estimated Annual Burden: 6,354 hours.

Estimated Average Burden per Respondent:

a. 15 minutes for VA Forms 21-674 and 674c.

b. 5 minutes for VA Form 21-674.

Frequency of Response: One time.

Estimated Number of Respondents: 32,679.

By direction of the Secretary.
Dorothy Glasgow,
VA PRA Clearance Officer, Alt. Office of Enterprise and Integration, Data Governance Analytics, Department of Veterans Affairs.

[FR Doc. 2021-18805 Filed 8-31-21; 8:45 am]

BILLING CODE 8320-01-P